CORPORATION FOR NATIONAL AND COMMUNITY SERVICE

45 CFR Part 2551

RIN 3045-AA29

Senior Companion Program; Amendments

AGENCY: Corporation for National and Community Service.

ACTION: Final rule.

SUMMARY: These amendments to the Final Regulation governing the Senior Companion Program include: improving access of persons with limited English speaking proficiency; clarifying what income should be counted for purposes of determining income eligibility of an applicant to become a stipended Senior Companion; providing increased flexibility to sponsors to determine the hours of service of Senior Companions; reducing restrictions on sponsors serving as volunteer stations; and providing for Senior Companions to serve as volunteer leaders.

DATES: These amendments are effective October 28, 2002.

FOR FURTHER INFORMATION CONTACT: Peter L. Boynton, 202-606-5000, ext. 499.

SUPPLEMENTARY INFORMATION: The Corporation published a notice of proposed rulemaking (NPRM) for the Senior Companion Program, 45 CFR part 2551, in the Federal Register at 67 FR 18846, dated April 17, 2002.

Summary of Main Comments

In response to the Corporation's invitation in the NPRM, the Corporation received 19 letter and/or email responses addressing the proposed amendments to the Senior Companion rules. Ten were in full support of all of the proposed rules. One expressed support for the amendment concerning volunteer stations, without commenting on other provisions. One expressed support for the amendment concerning service hours,without commenting on other provisions. Six expressed a preference for lowering the service hour requirement to 10 hours and four sought clarifications. None opposed any of the proposed amendments.

Following are the Corporation's responses to comments received:

Comment: With reference to § 2551.51, supported the lowering of the service requirement to a minimum of 10 rather than 15 hours per week.

Response: The Corporation understands the interest of some respondents to lower further the minimum service requirement. However, considering overall experience and the other comments received, the Corporation believes the proposed minimum of 15 hours provides sponsors and volunteers with sufficient flexibility.

Comment: Sought to clarify the relationship between the stipend paid to Senior Companions and the monetary incentive that can be paid to volunteer leaders.

Response: The monetary incentive that can be paid to Senior Companion volunteer leaders is in addition to the stipend.

Comment: Asked for clarification whether volunteer leaders can perform staff duties.

Response: § 2551.121(b), Non-displacement of employed workers, addresses this issue. A Senior Companion may not perform duties that would otherwise be performed by paid staff or which would supplant the hiring of or result in the displacement of paid staff, or impair existing contracts for service.

Comment: Asked whether Senior Companion volunteer leaders must meet income eligibility requirements.

Response: Yes, if they receive a stipend. All stipended Senior Companions must meet income eligibility requirements.

Comment: With reference to § 2551.23(c)(2)(iv), asked if the Corporation would allow costs for translating basic information into different languages and for the use of interpreters.

Response: Such costs are allowable if they meet the requirements of § 2551.93.

Impact of Various Acts and Executive Orders

After carefully reviewing the changes implemented by this amendment, it was determined that:

(1) This was a significant regulatory action under section 3(f)(4) of Executive Order 12866 “Regulatory Planning and Review”, and required a review by the Office of Management and Budget;

(2) The Corporation hereby certifies that the Regulatory Flexibility Act does not apply because there is no “significant economic impact on a substantial number of small entities”;

(3) That the Unfunded Mandates Reform Act of 1995 (2 U.S.C. chapter 25, subchapter II) does not apply because the amendment does not result in any annual expenditures of $100 million by State, local, Indian Tribal governments or the private sector;

(4) That the Paperwork Reduction Act does not apply because the amendments do not impose any additional reporting or record-keeping requirements;

(5) That the Small Business Regulatory Enforcement Fairness Act of 1996 does not apply because it is not a major rule as defined by section 251 of the Small Business Regulatory Enforcement Fairness Act of 1996, and would not result in an annual effect on the economy of $100 million or more; result in an increase in cost or prices; or have significant adverse effects on competition, employment, investment, productivity, innovation, or on the ability of United States-based companies to compete with foreign-based companies in domestic and export markets; and

(6) That Executive Order 13132, “Federalism” does not apply because it would not have substantial direct effects on the States or the relationship between the national government and the States.

List of Subjects in 45 CFR Part 2551

Aged, Grant programs—social programs, Volunteers.

For the reasons set forth in the preamble, the Corporation for National and Community Service amends 45 CFR part 2551 as follows:

PART 2551—SENIOR COMPANION PROGRAM

1. The authority citation for part 2551 continues to read as follows:

Authority: 42 U.S.C. 4950 et seq.

2. Revise § 2551.23(c)(2)(iv) to read as follows:

§ 2551.23 What are a sponsor's program responsibilities?

* * * * *

(c) * * *

(2) * * *

(iv) That states the station assures it will not discriminate against volunteers or in the operation of its program on the basis of race; color; national origin, including individuals with limited English proficiency; sex; age; political affiliation; religion; or on the basis of disability, if the participant or member is a qualified individual with a disability; and

* * * * *

3. In § 2551.42, revise paragraph (b) to read as follows:

§ 2551.42 What income guidelines govern eligibility to serve as a stipended Senior Companion?

* * * * *

(b) For applicants to become stipended Senior Companions, annual income is projected for the following 12 months, based on income at the time of application. For serving stipended Senior Companions, annual income is counted for the past 12 months. Annual income includes the applicant or enrollee's income and that of his/her spouse, if the spouse lives in the same residence. Sponsors shall count the value of shelter, food, and clothing, if provided at no cost by persons related to the applicant, enrollee, or spouse.

* * * * *

4. Amend § 2551.45 by republishing the introductory text and adding paragraph (f) to read as follows:

§ 2551.45 What cost reimbursements are provided to Senior Companions?

Cost reimbursements include:

* * * * *

(f) Leadership incentive. Senior Companions who serve as volunteer leaders, assisting new Senior Companions or coordinating other Senior Companions in accordance with the Act, may be paid a monetary incentive.

5. Revise § 2551.51 to read as follows:

§ 2551.51 What are the terms of service of a Senior Companion?

A Senior Companion shall serve a minimum of 15 hours per week and a maximum of 40 hours per week. A Senior Companion shall not serve more than 2088 hours per year. Within these limitations, a sponsor may set service policies consistent with local needs.

6. Revise § 2551.61 to read as follows:

§ 2551.61 May a sponsor serve as a volunteer station?

Yes, a sponsor may serve as a volunteer station, provided this is part of the application workplan approved by the Corporation.

7. Revise § 2551.71 to read as follows:

§ 2551.71 What requirements govern the assignment of Senior Companions?

(a) Senior Companion assignments shall provide for Senior Companions to give direct services to one or more eligible adults that:

(1) Result in person-to-person supportive relationships with each client served.

(2) Support the achievement and maintenance of the highest level of independent living for their clients.

(3) Are meaningful to the Senior Companion.

(4) Are supported by appropriate orientation, training, and supervision.

(b) Senior Companions may serve as volunteer leaders, and in this capacity may provide indirect services. Senior Companions with special skills or demonstrated leadership ability may assist newer Senior Companion volunteers in performing their assignments and in coordinating activities of such volunteers.

(c) Senior Companions shall not provide services such as those performed by medical personnel, services to large numbers of clients, custodial services, administrative support services, or other services that would detract from their assignment.

8. Revise § 2551.72 to read as follows:

§ 2551.72 Is a written volunteer assignment plan required for each volunteer?

(a) All Senior Companions performing direct services to individual clients in home settings and individual clients in community-based settings, shall receive a written volunteer assignment plan developed by the volunteer station that:

(1) Is approved by the sponsor and accepted by the Senior Companion;

(2) Identifies the client(s) to be served;

(3) Identifies the role and activities of the Senior Companion and expected outcomes for the client(s);

(4) Addresses the period of time each client is expected to receive such services; and

(5) Is used to review the status of the Senior Companion's services in working with the assigned client(s), as well as the impact of the assignment on the client(s).

(b) If there is an existing plan that incorporates paragraphs (a)(2), (3), and (4) of this section, that plan shall meet the requirement.

(c) All Senior Companions serving as volunteer leaders shall receive a written volunteer assignment plan developed by the volunteer station that:

(1) Is approved by the sponsor and accepted by the Senior Companion;

(2) Identifies the role and activities of the Senior Companion and expected outcomes;

(3) Addresses the period of time of service; and

(4) Is used to review the status of the Senior Companion's services identified in the assignment plan, as well as the impact of those services.

Dated: September 23, 2002.
Tess Scannell,
Director, National Senior Service Corps.

[FR Doc. 02-24612 Filed 9-26-02; 8:45 am]

BILLING CODE 6050-$$-P